DEPARTMENT OF HOMELAND SECURITY

Federal Emergency Management Agency

[Docket ID FEMA-2026-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Assistant Administrator, Federal Insurance Directorate, Resilience has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Elizabeth Asche,
Assistant Administrator, Federal Insurance Directorate, Resilience, Federal Emergency Management Agency, Department of Homeland Security.

State and county | Location and case No. | Chief executive officer of community | Community map repository | Date of modification | Community No.
Connecticut: New Haven (FEMA Docket No.: B-2563). | Town of Wallingford (23-01-0472P). | The Honorable Vincent Cervoni, Mayor, Town of Wallingford, 45 South Main Street, Wallingford, CT 06492. | Town Hall, 45 South Main Street, Wallingford, CT 06492. | Dec. 15, 2025 | 090090
Florida:
Duval (FEMA Docket No.: B-2558). | City of Jacksonville (24-04-2896P). | The Honorable Donna Deegan, Mayor, City of Jacksonville, 117 West Duval Street, Suite 400, Jacksonville, FL 32202. | City Hall, 117 West Duval Street, Jacksonville, FL 32202. | Dec. 5, 2025 | 120077
Duval (FEMA Docket No.: B-2558). | City of Jacksonville (24-04-4935P). | The Honorable Donna Deegan, Mayor, City of Jacksonville, 117 West Duval Street, Suite 400, Jacksonville, FL 32202. | City Hall, 117 West Duval Street, Jacksonville, FL 32202. | Dec. 3, 2025 | 120077
Duval (FEMA Docket No.: B-2558). | City of Jacksonville (24-04-7028P). | The Honorable Donna Deegan, Mayor, City of Jacksonville, 117 West Duval Street, Suite 400, Jacksonville, FL 32202. | City Hall, 117 West Duval Street, Jacksonville, FL 32202. | Dec. 12, 2025 | 120077
Martin (FEMA Docket No.: B-2563). | Unincorporated areas of Martin County (24-04-5443P). | Don G. Donaldson, Martin County Administrator, 2401 Southeast Monterey Road, Stuart, FL 34996. | Martin County Administrative Center, 2401 Southeast Monterey Road, Stuart, FL 34996. | Dec. 17, 2025 | 120161
Orange (FEMA Docket No.: B-2563). | City of Orlando (25-04-2096P). | The Honorable Buddy Dyer, Mayor, City of Orlando, 400 South Orange Avenue, Orlando, FL 32801. | Public Works Department, Engineering Division, 400 South Orange Avenue, 8th Floor, Orlando, FL 32801. | Dec. 22, 2025 | 120186
Orange (FEMA Docket No.: B-2570). | City of Winter Garden (24-04-3647P). | The Honorable John Rees, Mayor, City of Winter Garden, 330 West Plant Street, Winter Garden, FL 34787. | City Hall, 330 West Plant Street, Winter Garden, FL 34787. | Dec. 19, 2025 | 120187
Pasco (FEMA Docket No.: B-2558). | Unincorporated areas of Pasco County (24-04-3074P). | The Honorable Mike Carballa, Pasco County Administrator, 8731 Citizens Drive, Suite 340, New Port Richey, FL 34654. | Pasco County Government Center, 8731 Citizens Drive, New Port Richey, FL 34654. | Dec. 11, 2025 | 120230
Polk (FEMA Docket No.: B-2570). | Unincorporated areas of Polk County (25-04-2249P). | Bill Beasley, Polk County Manager, 330 West Church Street, Bartow, FL 33830. | Polk County Land Development Division, 330 West Church Street, Bartow, FL 33830. | Dec. 18, 2025 | 120261
St. Johns (FEMA Docket No.: B-2563). | Unincorporated areas of St. Johns County (25-04-0917P). | The Honorable Joy Andrews, St. Johns County Administrator, 500 San Sebastian View, St. Augustine, FL 32084. | St. Johns County Government Building, 500 San Sebastian View, St. Augustine, FL 32084. | Dec. 16, 2025 | 125147
St. Johns (FEMA Docket No.: B-2558). | Unincorporated areas of St. Johns County (25-04-3671P). | The Honorable Joy Andrews, St. Johns County Administrator, 500 San Sebastian View, St. Augustine, FL 32084. | St. Johns County Government Building, 500 San Sebastian View, St. Augustine, FL 32084. | Dec. 3, 2025 | 125147
Sumter (FEMA Docket No.: B-2558). | City of Wildwood (25-04-2922P). | The Honorable Ed Wolf, Mayor, City of Wildwood, 100 North Main Street, Wildwood, FL 34785. | City Hall, 100 North Main Street, Wildwood, FL 34785. | Dec. 12, 2025 | 120299
Sumter (FEMA Docket No.: B-2558). | Unincorporated areas of Sumter County (25-04-2922P). | The Honorable Bradley Arnold, Sumter County Administrator, 7375 Powell Road, Wildwood, FL 34785. | Sumter County Service Center, 7375 Powell Road, Wildwood, FL 34785. | Dec. 12, 2025 | 120296
Illinois:
Cook (FEMA Docket No.: B-2563). | Village of Hoffman Estates (25-05-1418P). | The Honorable William D. McLeod, Mayor, Village of Hoffman Estates, 1900 Hassell Road, Hoffman Estates, IL 60169. | Village Hall, 1900 Hassell Road, Hoffman Estates, IL 60169. | Dec. 19, 2025 | 170107
Cook (FEMA Docket No.: B-2555). | Village of Northbrook (25-05-0537P). | The Honorable Kathryn Ciesla, President, Village of Northbrook, 1225 Cedar Lane, Northbrook, IL 60062. | Public Works Department, Engineering Division, 655 Huehl Road, Northbrook, IL 60062. | Nov. 28, 2025 | 170132
Indiana:
Boone (FEMA Docket No.: B-2558). | Town of Whitestown (25-05-0293P). | The Honorable Dan Patterson, President, Town of Whitestown Council, 6210 Veterans Drive, Whitestown, IN 46075. | Town Hall, 3 South Main Street, Whitestown, IN 46075. | Dec. 5, 2025 | 180015
Johnson (FEMA Docket No.: B-2558). | City of Greenwood (24-05-0658P). | The Honorable Mark Meyers, Mayor, City of Greenwood, 300 South Madison Avenue, Greenwood, IN 46142. | City Hall, 300 South Madison Avenue, Greenwood, IN 46142. | Dec. 15, 2025 | 180115
Massachusetts: Berkshire (FEMA Docket No.: B-2570). | City of North Adams (24-01-0275P). | The Honorable Jennifer A. Macksey, Mayor, City of North Adams, 10 Main Street, North Adams, MA, 01247. | City Hall, 10 Main Street, North Adams, MA 01247. | Dec. 15, 2025 | 250034
Michigan:
Kent (FEMA Docket No.: B-2563). | Charter Township of Cascade (23-05-2902P). | The Honorable Grace Lesperance, Supervisor, Charter Township of Cascade, 5920 Tahoe Drive Southeast, Grand Rapids, MI 49546. | Charter Township Hall, 5920 Tahoe Drive Southeast, Grand Rapids, MI 49546. | Dec. 10, 2025 | 260814
Kent (FEMA Docket No.: B-2563). | Township of Ada (23-05-2902P). | The Honorable Thomas Korth, Supervisor, Township of Ada, P.O. Box 370, Ada, MI 49301. | Township Hall, 7330 Thornapple River Drive, Ada, MI 49301. | Dec. 19, 2025 | 260248
Missouri: Pettis (FEMA Docket No.: B-2563). | Unincorporated areas of Pettis County (24-07-0860P). | The Honorable Bill Taylor, Presiding Commissioner, Pettis County Commission, 415 South Ohio Avenue, Suite 212, Sedalia, MO 65301. | Sedalia-Pettis County Emergency Management Office, 1511 North Ohio Avenue, Sedalia, MO 65301. | Dec. 8, 2025 | 290823
North Carolina:
Haywood (FEMA Docket, No.: B-2570). | Town of Canton (25-04-2980P). | The Honorable Zeb Smathers, Mayor, Town of Canton, 85 Summer Street, Canton, NC 28716. | Planning Department, 85 Summer Street, Canton, NC 28716. | Dec. 26, 2025 | 370121
Haywood (FEMA Docket, No.: B-2570). | Unincorporated areas of Haywood County (25-04-2980P). | Kevin Ensley, Chair, Haywood County Board of Commissioners, 215 N Main Street, Waynesville, NC 28786. | Haywood County Development Services, 157 Paragon Parkway, Suite 200, Clyde, NC 28721. | Dec. 26, 2025 | 370120
Mecklenburg (FEMA Docket No.: B-2563). | Town of Huntersville (24-04-7717P). | The Honorable Christy Clark, Mayor, Town of Huntersville, P.O. Box 664, Huntersville, NC 28070. | Planning Department, 105 Gilead Road, Huntersville, NC 28078. | Dec. 17, 2025 | 370478
Ohio:
Fairfield (FEMA Docket No.: B-2563). | City of Pickerington (25-05-1088P). | The Honorable Lee Gray, Mayor, City of Pickerington, 100 Lockville Road, Pickerington, OH 43147. | City Hall, 100 Lockville Road, Pickerington, OH 43147. | Dec. 12, 2025 | 390162
Fairfield (FEMA Docket No.: B-2563). | Unincorporated areas of Fairfield County (25-05-1088P). | The Honorable Steve Davis, Commissioner, Fairfield County, 210 East Main Street, Room 301, Lancaster, OH 43130. | Fairfield County EMA, 240 Baldwin Drive, Lancaster, OH 43130. | Dec. 12, 2025 | 390158
Lake (FEMA Docket No.: B-2563). | Unincorporated areas of Lake County (24-05-1335P). | The Honorable Richard J. Regovich, President, Lake County, Board of Commissioners, 105 Main Street, Painesville, OH 44077. | Lake County Administration Building, 105 Main Street, Painesville, OH 44077. | Dec. 15, 2025 | 390771
Lake (FEMA Docket No.: B-2563). | Village of Perry (24-05-1335P). | The Honorable James Gessic, Mayor, Village of Perry 3758 Center Road, Perry, OH 44081. | Village Hall, 3758 Center Road, Perry, OH 44081. | Dec. 15, 2025 | 390320
Oklahoma:
Oklahoma (FEMA Docket No.: B-2558). | City of Oklahoma City (24-06-1117P). | The Honorable David Holt, Mayor, City of Oklahoma City, 200 North Walker Avenue, 3rd Floor, Oklahoma City, OK 73102. | Publick Works Department, 420 West Main Street, Suite 700, Oklahoma City, OK 73102. | Dec. 3, 2025 | 405378
Wagoner (FEMA Docket No.: B-2563). | City of Coweta (24-06-2177P). | The Honorable Naomi Hogue, Mayor, City of Coweta, P.O. Box 850, Coweta, OK 74429. | City Hall, 310 South Broadway, Coweta, OK 74429. | Dec. 18, 2025 | 400216
Pennsylvania:
Pike (FEMA Docket No.: B-2570). | Township of Lackawaxen (25-03-0506P). | The Honorable Jeffery A. Shook, Chair, Township of Lackawaxen Board of Supervisors, 169 Urban Road, Hawley, PA 18428. | Township Building, 169 Urban Road, Hawley, PA 18428. | Dec. 22, 2025 | 421966
Pike (FEMA Docket No.: B-2570). | Township of Palmyra (25-03-0506P). | The Honorable Kenneth Coutts, Chair, Township of Palmyra Pike County Board of Supervisors, 115 Buehler Lane, Paupack, PA 18451. | Township Hall, 115 Buehler Lane, Paupack, PA 18451. | Dec. 22, 2025 | 421968
Wayne | Borough of Hawley (25-03-0506P). | Ann Monaghan, President, Borough of Hawley, 94 Main Avenue, Hawley, PA 18428. | Borough Hall, 94 Main Avenue, Hawley, PA 18428. | Dec. 22, 2025 | 420863
Wayne (FEMA Docket No.: B-2570). | Township of Palmyra (25-03-0506P). | The Honorable Pete Steffen, Chair, Township of Palmyra Wayne County Board of Supervisors, 219 Oak Street, Hawley, PA 18428. | Township Hall, 219 Oak Street, Hawley, PA 18428. | Dec. 22, 2025 | 420865
South Carolina: Richland (FEMA Docket No.: B-2558). | Unincorporated areas of Richland County (24-04-0706P). | The Honorable Leonard Brown, Richland County Administrator, P.O. Box 192, Columbia, SC 29204. | Richland County Administration Building, 2020 Hampton Street, 1st Floor, Columbia, SC 29204. | Dec. 15, 2025 | 450170
Texas:
Bexar (FEMA Docket No.: B-2570). | City of San Antonio (25-06-0705P). | The Honorable Gina Ortiz Jones, Mayor, City of San Antonio, P.O. Box 839966, San Antonio, TX 78283. | City Hall, 100 Military Plaza, San Antonio, TX 78205. | Dec. 15, 2025 | 480045
Denton (FEMA Docket No.: B-2563). | City of Sanger (24-06-0927P). | The Honorable Thomas Muir, Mayor, City of Sanger, P.O. Box 1729, Sanger, TX 76266. | City Hall, 201 Bolivar Street, Sanger, TX 76266. | Dec. 19, 2025 | 480786
Denton (FEMA Docket No.: B-2563). | Town of Flower Mound (24-06-2617P). | The Honorable Cheryl Moore, Mayor, Town of Flower Mound, 2121 Cross Timbers Road, Flower Mound, TX, 75028. | Public Works Department, Floodplain Management, 1001 Cross Timbers Road, Suite 2330, Flower Mound, TX, 75028. | Dec. 17, 2025 | 480777
El Paso (FEMA Docket No.: B-2563). | City of El Paso (23-06-2681P). | The Honorable Renard U. Johnson, Mayor, City of El Paso, 300 North Campbell Street, El Paso, TX 79901. | Zoning Division, 811 Texas Avenue, El Paso, TX 79901. | Dec. 11, 2025 | 480214
Tarrant (FEMA Docket No.: B-2558). | City of Watauga (25-06-0706P). | The Honorable Arthur L. Miner, Mayor, City of Watauga, 7105 Whitley Road, Watauga, TX 76148. | Public Works Department, 7800 Virgil Anthony Boulevard, Watauga, TX 76148. | Dec. 11, 2025 | 480613
Virginia:
Arlington (FEMA Docket No.: B-2563). | Unincorporated areas of Arlington County (24-03-0126P). | Mark Schwartz, County Manager, Arlington County, 2100 Clarendon Boulevard, Suite 302, Arlington, VA 22201. | Ellen M. Bozman Government Center, 2100 Clarendon Boulevard, Arlington, VA 22201. | Dec. 15, 2025 | 515520
Arlington (FEMA Docket No.: B-2563). | Unincorporated areas of Arlington County (24-03-0127P). | Mark Schwartz, County Manager, Arlington County, 2100 Clarendon Boulevard, Suite 302, Arlington, VA 22201. | Ellen M. Bozman Government Center, 2100 Clarendon Boulevard, Arlington, VA 22201. | Dec. 18, 2025 | 515520
Chesterfield (FEMA Docket No.: B-2558). | Unincorporated areas of Chesterfield County (25-03-0079P). | The Honorable Joseph P. Casey, Chesterfield County Administrator, 9901 Lori Road, Chesterfield, VA 23832. | Chesterfield County Planning Department, 9800 Government Center Parkway, Chesterfield, VA 23832. | Dec. 3, 2025 | 510035
Fairfax (FEMA Docket No.: B-2558). | Unincorporated areas of Fairfax County (24-03-0807P). | The Honorable Jeffrey McKay, Chair At-Large, Fairfax County Board of Supervisors, 12000 Government Center Parkway, Suite 530, Fairfax, VA 22035. | Fairfax County Government Center, 12000 Government Center Parkway, Fairfax, VA 22035. | Dec. 8, 2025 | 515525
Loudoun (FEMA Docket No.: B-2558). | Unincorporated areas of Loudoun County (24-03-0807P). | The Honorable Tim Hemstreet, Loudoun County Administrator, 1 Harrison Street Southeast, 5th Floor, Leesburg, VA 20175. | Loudoun County Government Center, 1 Harrison Street Southeast, 3rd Floor, MSC #60, Leesburg, VA 20175. | Dec. 8, 2025 | 510090

[FR Doc. 2026-01743 Filed 1-28-26; 8:45 am]

BILLING CODE 9110-12-P